DEPARTMENT OF TRANSPORTATION

National Highway Traffic Safety Administration

49 CFR Parts 555, 571, and 591

[Docket No. NHTSA-2018-0092]

RIN 2127-AL99

Pilot Program for Collaborative Research on Motor Vehicles With High or Full Driving Automation; Extension of Comment Period

AGENCY: National Highway Traffic Safety Administration (NHTSA), Department of Transportation (DOT).

ACTION: Advance notice of proposed rulemaking (ANPRM); extension of comment period.

SUMMARY: In response to a request from the public, NHTSA is announcing a two-week extension of the comment period on the ANPRM on a Pilot Program for Collaborative Research on Motor Vehicles with High or Full Driving Automation. The comment period for the ANPRM was originally scheduled to end on November 26, 2018. It will now end on December 10, 2018.

DATES: The comment period for the ANPRM published on October 10, 2018 at 83 FR 50872 is extended. Written comments on the ANPRM must be received on or before December 10, 2018 in order to be considered timely.

ADDRESSES: Comments must be submitted by one of the following methods:

• Federal eRulemaking Portal: Go to http://www.regulations.gov. Follow the online instructions for submitting comments.

• Mail: Docket Management Facility, M-30, U.S. Department of Transportation, West Building, Ground Floor, Room W12-140, 1200 New Jersey Avenue SE, Washington, DC 20590.

• Hand Delivery or Courier: U.S. Department of Transportation, West Building, Ground Floor, Room W12-140, 1200 New Jersey Avenue SE, Washington, DC, between 9 a.m. and 5 p.m. Eastern time, Monday through Friday, except Federal holidays.

• Fax: 202-493-2251.

Regardless of how you submit your comments, they must include the docket number identified in the heading of this notice.

Note that all comments received, including any personal information provided, will be posted without change to http://www.regulations.gov. Please see the “Privacy Act” heading below.

You may call the Docket Management Facility at 202-366-9324.

Docket: For access to the docket to read background documents or comments received, go to http://www.regulations.gov or the street address listed above. We will continue to file relevant information in the docket as it becomes available.

Privacy Act: In accordance with 5 U.S.C. 553(c), DOT solicits comments from the public to better inform its decision-making process. DOT posts these comments, without edit, including any personal information the commenter provides, to http://www.regulations.gov, as described in the system of records notice (DOT/ALL-14 FDMS), which can be reviewed at https://www.transportation.gov/privacy. Anyone can search the electronic form of all comments received into any of our dockets by the name of the individual submitting the comment (or signing the comment, if submitted on behalf of an association, business, labor union, etc.).

FOR FURTHER INFORMATION CONTACT: For research and pilot program issues: Dee Williams, Office of Vehicle Safety Research, 202-366-8537, Dee.Williams@dot.gov, National Highway Traffic Safety Administration, 1200 New Jersey Avenue SE, Washington, DC 20590-0001.

For legal issues: Stephen Wood, Assistant Chief Counsel, Vehicle Rulemaking and Harmonization, Office of Chief Counsel, 202-366-2992, Steve.Wood@dot.gov, at the same address.

SUPPLEMENTARY INFORMATION: On October 10, 2018, NHTSA published an ANPRM to obtain public comments on the factors and structure that are appropriate for the Agency to consider in designing a national pilot program that will enable the Agency to facilitate, monitor and learn from the testing and development of the emerging advanced vehicle safety technologies and to assure the safety of those activities. The ANPRM stated that the closing date for comments is November 26, 2018.

On November 16, 2018, NHTSA received a request from the Uber Technologies, Inc. for a two-week extension of the comment period. The request can be found in the docket for the ANPRM listed above under ADDRESSES. NHTSA has considered this request and believes that a 14-day extension beyond the original due date is desirable to provide additional time for the public to comment on the complex and novel questions in the ANPRM. This is to notify the public that NHTSA is extending the comment period on the ANPRM, and allowing it to remain open until December 10, 2018.

Issued in Washington, DC, pursuant to authority delegated in 49 CFR 1.81 and 1.95.
Heidi Renate King,
Deputy Administrator.

[FR Doc. 2018-25532 Filed 11-19-18; 4:15 pm]

BILLING CODE 4910-59-P